DEPARTMENT OF THE INTERIOR

National Park Service

[N6414; NPS-WASO-NAGPRA-NPS0040808; PPWOCRADN0-PCU00RP14.R50000]

Notice of Intended Repatriation: California Academy of Sciences, San Francisco, CA

AGENCY: National Park Service, Interior.

ACTION: Notice.

SUMMARY: In accordance with the Native American Graves Protection and Repatriation Act (NAGPRA), the California Academy of Sciences (CAS) intends to repatriate certain cultural items that meet the definition of objects of cultural patrimony and that have a cultural affiliation with the Indian Tribes or Native Hawaiian organizations in this notice.

DATES: Repatriation of the cultural items in this notice may occur on or after September 15, 2025.

ADDRESSES: Send additional, written requests for repatriation of the cultural items in this notice to Cheryl Tripathi, California Academy of Sciences Anthropology Department, Golden Gate Park, 55 Music Concourse Drive, San Francisco, CA 94118, email ctripathi@calacademy.org.

SUPPLEMENTARY INFORMATION: This notice is published as part of the National Park Service's administrative responsibilities under NAGPRA. The determinations in this notice are the sole responsibility of the California Academy of Sciences and additional information on the determinations in this notice, including the results of consultation, can be found in the summary or related records. The National Park Service is not responsible for the determinations in this notice.

Abstract of Information Available

A total of seven cultural items have been requested for repatriation. The seven objects of cultural patrimony are all baskets. According to accession records, these baskets originated from Riverside and San Diego Counties in Southern California or were woven in the style of baskets from Indigenous communities of those counties. Four of these baskets were acquired as gifts to the CAS Anthropology Department from the personal collections of local donors. One basket was purchased by the CAS Anthropology Department from the School of American Research in Santa Fe in 1987; another was purchased by the CAS Anthropology Department from the annual California Indian Basketweavers Association in Thousand Oaks, CA, in 1998. As far as is known, there have been no hazardous substances used to treat any of these objects.

Determinations

The California Academy of Sciences has determined that:

• The seven objects of cultural patrimony described in this notice have ongoing historical, traditional, or cultural importance central to the Native American group, including any constituent sub-group (such as a band, clan, lineage, ceremonial society, or other subdivision).

• There is a reasonable connection between the cultural items described in this notice and the Cahuilla Band of Indians.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 15, 2025. If competing requests for repatriation are received, the California Academy of Sciences must determine the most appropriate requestor prior to repatriation. Requests for joint repatriation of the cultural items are considered a single request and not competing requests. The California Academy of Sciences is responsible for sending a copy of this notice to the Indian Tribes and Native Hawaiian organizations identified in this notice and to any other consulting parties.

Authority: Native American Graves Protection and Repatriation Act, 25 U.S.C. 3004 and the implementing regulations, 43 CFR 10.9.

Dated: July 31, 2025.
Melanie O'Brien,
Manager, National NAGPRA Program.

[FR Doc. 2025-15404 Filed 8-13-25; 8:45 am]

BILLING CODE 4312-52-P